NATIONAL SCIENCE FOUNDATION

Notice of Permit Application Received Under the Antarctic Conservation Act of 1978

AGENCY: National Science Foundation.

ACTION: Notice of permit applications received under the Antarctic Conservation Act.

SUMMARY: Notice is hereby given that the National Science Foundation (NSF) has received a waste management permit application for operation of a remote field support and emergency provisions helicopter flight seeing for the Motor Vessel, Octopus for the 2006-2007 austral summer season. The application is submitted to NSF pursuant to regulations issued under the Antarctic Conservation Act of 1978.

DATES: Interested parties are invited to submit written data, comments, or views with respect to this permit application by November 26, 2007. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale, Environmental Officer, at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for a team of eight traveling with the S/V Pelagic Australis that will spend four weeks traveling by sailboat, sea kayak, and foot along the northeastern coast of the Antarctic Peninsula and certain outlying islands. Some camping ashore will occur and any and all trash generated will be returned to the Pelagic for disposal in accordance with the vessel's permitted procedures. Fuel for cook stoves will be transferred to appropriate fuel bottles prior to leaving South America. Any batteries taken ashore will be removed and non-rechargeable batteries will be returned to South America for disposal. Conditions of the permit would include requirements to report on the removal of materials and any accidental releases, and management of all waste, including human waste, in accordance with Antarctic waste regulations.

Application for the permit is made by: Jon S. Bowermaster, OCEANS 8 Productions, Box 730, Stone Ridge, NY 12484.

Location: Antarctic Peninsula.

Dates: December 1, 2007 to January 30, 2008.

Nadene G. Kennedy,
Permit Officer.

[FR Doc. E7-21176 Filed 10-25-07; 8:45 am]

BILLING CODE 7555-01-P